DEPARTMENT OF LABOR

Occupational Safety and Health Administration

[Docket No. OSHA-2006-0042]

CSA Group Testing & Certification Inc.: Grant of Expansion of Recognition and Modification to the NRTL Program's List of Appropriate Test Standards

AGENCY: Occupational Safety and Health Administration (OSHA), Labor.

ACTION: Notice.

SUMMARY: In this notice, OSHA announces the final decision to expand the scope of recognition for CSA Group Testing & Certification Inc., as a Nationally Recognized Testing Laboratory (NRTL). Additionally, OSHA announces the final decision to add four new test standards to the NRTL Program's List of Appropriate test standards.

DATES: The expansion of the scope of recognition becomes effective on May 19, 2021.

FOR FURTHER INFORMATION CONTACT: Information regarding this notice is available from the following sources:

Press inquiries: Contact Mr. Frank Meilinger, Director, OSHA Office of Communications, U.S. Department of Labor; telephone (202) 693-1999 or email meilinger.francis2@dol.gov.

General and technical information: Contact Mr. Kevin Robinson, Director, Office of Technical Programs and Coordination Activities, Directorate of Technical Support and Emergency Management, Occupational Safety and Health Administration, U.S. Department of Labor; telephone (202) 693-2110 or email robinson.kevin@dol.gov.

SUPPLEMENTARY INFORMATION:

I. Notice of Final Decision

OSHA hereby gives notice of the expansion of the scope of recognition of CSA Group Testing & Certification Inc. (CSA) as a NRTL. CSA's expansion covers the addition of twenty-one test standards to the NRTL scope of recognition.

OSHA recognition of a NRTL signifies that the organization meets the requirements specified in 29 CFR 1910.7. Recognition is an acknowledgment that the organization can perform independent safety testing and certification of the specific products covered within the scope of recognition. Each NRTL's scope of recognition includes (1) the type of products the NRTL may test, with each type specified by the applicable test standard; and (2) the recognized site(s) that has/have the technical capability to perform the product-testing and product-certification activities for test standards within the NRTL's scope. Recognition is not a delegation or grant of government authority; however, recognition enables employers to use products approved by the NRTL to meet OSHA standards that require product testing and certification.

The agency processes an application by a NRTL for initial recognition and for an expansion or renewal of this recognition, following requirements in Appendix A, 29 CFR 1910.7. This appendix requires that the agency publish two notices in the Federal Register in processing an application. In the first notice, OSHA announces the application and provides the preliminary finding. In the second notice, the agency provides the final decision on the application. These notices set forth the NRTL's scope of recognition or modifications of that scope. OSHA maintains an informational web page for each NRTL, including CSA, which details the NRTL's scope of recognition. These pages are available from the OSHA website at http://www.osha.gov/dts/otpca/nrtl/index.html.

CSA submitted an application, dated January 24, 2018 (OSHA-2006-0042-0019), to expand their recognition to include twenty-two additional test standards. OSHA staff performed detailed analysis of the application packet and reviewed other pertinent information. OSHA did not perform any on-site reviews in relation to this application.

OSHA published the preliminary notice announcing CSA's expansion application in the Federal Register on February 23, 2021 (86 FR 11005). The agency requested comments by March 10, 2021, but it received no comments in response to this notice. Due to an error, the title of one of the standards, UL 347A, was listed incorrectly in the preliminary notice. As a result, OSHA will not include UL 347A in the list of standards added to the expanded recognition. OSHA will publish an additional notice to announce the correct title of UL 347A to afford the public an opportunity to comment.

To obtain or review copies of all public documents pertaining to the CSA's application, go to http://www.regulations.gov or contact the Docket Office, Occupational Safety and Health Administration, U.S. Department of Labor. Docket No. OSHA-2006-0042 contains all materials in the record concerning CSA's recognition. Please note: Due to the COVID-19 pandemic, the Docket Office is closed to the public at this time but can be contacted at (202) 693-2350.

II. Final Decision and Order

OSHA staff examined CSA's expansion application, its capability to meet the requirements of the test standards, and other pertinent information. Based on its review of this evidence, OSHA finds that CSA meets the requirements of 29 CFR 1910.7 for expansion of its recognition, subject to the limitations and conditions listed in this notice. OSHA, therefore, is proceeding with this final notice to grant CSA's expanded scope of recognition. OSHA limits the expansion of CSA's recognition to testing and certification of products for demonstration of conformance to the test standards listed below in Table 1.

Table 1—List of Appropriate Test Standards for Inclusion in CSA's NRTL Scope of Recognition
Test standard | Test standard title
UL 61010-2-030 | Standard for Safety Requirements for Electrical Equipment for Measurement, Control and Laboratory Use—Part 2-030: Particular Requirements for Testing and Measuring Circuits.
UL 61010-2-032 * | Standard for Safety Requirements for Electrical Equipment for Measurement, Control and Laboratory Use—Part 2-032: Particular Requirements for Hand-Held and Hand-Manipulated Current Sensors for Electrical Test and Measurement.
UL 61010-2-033 * | Standard for Safety Requirements for Electrical Equipment for Measurement, Control and Laboratory Use—Part 2-033: Particular Requirements for Hand-Held Multimeters for Domestic and Professional Use, Capable of Measuring Mains Voltage.
UL 61010-2-040 * | Safety Requirements for Electrical Equipment for Measurement, Control and Laboratory Use—Part 2-040: Particular Requirements for Sterilizers and Washer-Disinfectors Used to Treat Medical Materials.
UL 61010-2-081 | Standard for Safety Requirements for Electrical Equipment for Measurement, Control and Laboratory Use—Part 2-081: Particular Requirements for Automatic and Semi-Automatic Laboratory Equipment for Analysis and Other Purposes.
UL 61010-2-101 | Safety Requirements for Electrical Equipment for Measurement, Control and Laboratory Use—Part 2-101: Particular Requirements for In Vitro Diagnostic (IVD) Medical Equipment.
UL 61010-2-201 * | Safety Requirements for Electrical Equipment for Measurement, Control and Laboratory Use—Part 2-201: Particular Requirements for Control Equipment.
UL 61010-031 | Standard for Safety Requirements for Electrical Equipment for Measurement, Control and Laboratory Use—Part 031: Safety Requirements for Hand-Held and Hand-Manipulated Probe Assemblies for Electrical Test and Measurement.
UL 62841-1 | Standard for Electric Motor-Operated Hand-Held Tools, Transportable Tools and Lawn and Garden Machinery—Safety—Part 1: General Requirements.
UL 62841-2-2 | Standard for Electric Motor-Operated Hand-Held Tools, Transportable Tools and Lawn and Garden Machinery—Safety—Part 2-2: Particular Requirements for Hand-Held Screwdrivers and Impact Wrenches.
UL 62841-2-4 | Standard for Electric Motor-Operated Hand-Held Tools, Transportable Tools and Lawn and Garden Machinery—Safety—Part 2-4: Particular Requirements for Hand-Held Sanders and Polishers Other than Disc Type.
UL 62841-2-5 | Standard for Electric Motor-Operated Hand-Held Tools, Transportable Tools and Law and Garden Machinery—Safety—Part 2-5: Particular Requirements for Hand-Held Circular Saws.
UL 62841-2-8 | Standard for Electric Motor-Operated Hand-Held Tools, Transportable Tools and Lawn and Garden Machinery—Safety—Part 2-8: Particular Requirements for Hand-Held Shears and Nibblers.
UL 62841-2-9 | Standard for Electric Motor-Operated Hand-Held Tools, Transportable Tools and Lawn and Garden Machinery—Safety—Part 2-9: Particular Requirements for Hand-Held Tappers and Threaders.
UL 62841-2-14 | Standard for Electric Motor-Operated Hand-Held Tools, Transportable Tools and Lawn and Garden Machinery—Safety—Part 2-14: Particular Requirements for Hand-Held Planers.
UL 62841-3-1 | Standard for Electric Motor-Operated Hand-Held Tools, Transportable Tools and Lawn and Garden Machinery—Safety—Part 3-1: Particular Requirements for Transportable Table Saws.
UL 62841-3-6 | Standard for Electric Motor-Operated Hand-Held Tools, Transportable Tools and Lawn and Garden Machinery—Safety—Part 3-6: Particular Requirements for Transportable Diamond Drills with Liquid System.
UL 62841-3-9 | Standard for Electric Motor-Operated Hand-Held Tools, and Transportable Tools and Lawn and Garden Machinery—Safety—Part 3-9: Particular Requirement for Transportable Mitre Saws.
UL 62841-3-10 | Standard for Electric Motor-Operated Hand-Held Tools, Transportable Tools and Lawn and Garden Machinery—Safety—Part 3-10: Particular Requirement for Transportable Cut-Off Machines.
UL 60950-22 | Information Technology Equipment—Safety—Part 22: Equipment to be Installed Outdoors.
UL 8750 | Light Emitting Diode (LED) Equipment for Use in Lighting Products.
* Represents the standards that OSHA proposes to add to the NRTL Program's List of Appropriate Test Standards.

In this notice, OSHA also announces the final decision to add four new test standards to the NRTL Program's List of Appropriate Test Standards. Table 2, below, lists the test standards that are new to the NRTL Program. OSHA determined that these test standards are appropriate test standards and will add them to the NRTL Program's List of Appropriate Test Standards.

Table 2—Test Standards OSHA Is Adding to the NRTL Program's List of Appropriate Test Standards
Test standard | Test standard title
UL 61010-2-032 | Standard for Safety Requirements for Electrical Equipment for Measurement, Control and Laboratory Use—Part 2-032: Particular Requirements for Hand-Held and Hand-Manipulated Current Sensors for Electrical Test and Measurement.
UL 61010-2-033 | Standard for Safety Requirements for Electrical Equipment for Measurement, Control and Laboratory Use—Part 2-033: Particular Requirements for Hand-Held Multimeters for Domestic and Professional Use, Capable of Measuring Mains Voltage.
UL 61010-2-040 | Safety Requirements for Electrical Equipment for Measurement, Control and Laboratory Use—Part 2-040: Particular Requirements for Sterilizers and Washer-Disinfectors Used to Treat Medical Materials.
UL 61010-2-201 | Safety Requirements for Electrical Equipment for Measurement, Control and Laboratory Use—Part 2-201: Particular Requirements for Control Equipment.

OSHA's recognition of any NRTL for a particular test standard is limited to equipment or materials for which OSHA standards require third-party testing and certification before using them in the workplace. Consequently, if a test standard also covers any products for which OSHA does not require such testing and certification, a NRTL's scope of recognition does not include these products.

The American National Standards Institute (ANSI) may approve the test standards listed above as American National Standards. However, for convenience, we may use the designation of the standards-developing organization for the standard as opposed to the ANSI designation. Under the NRTL Program's policy (see OSHA Instruction CPL 1-0.3, Appendix C, paragraph XIV), any NRTL recognized for a particular test standard may use either the proprietary version of the test standard or the ANSI version of that standard. Contact ANSI to determine whether a test standard is currently ANSI-approved.

A. Conditions

In addition to those conditions already required by 29 CFR 1910.7, CSA must abide by the following conditions of the recognition:

1. CSA must inform OSHA as soon as possible, in writing, of any change of ownership, facilities, or key personnel, and of any major change in its operations as a NRTL, and provide details of the change(s);

2. CSA must meet all the terms of its recognition and comply with all OSHA policies pertaining to this recognition; and

3. CSA must continue to meet the requirements for recognition, including all previously published conditions on CSA's scope of recognition, in all areas for which it has recognition.

Pursuant to the authority in 29 CFR 1910.7, OSHA hereby expands the scope of recognition of CSA as a NRTL, subject to the limitations and conditions specified above.

III. Authority and Signature

James S. Frederick, Acting Assistant Secretary of Labor for Occupational Safety and Health, 200 Constitution Avenue NW, Washington, DC 20210, authorized the preparation of this notice. Accordingly, the agency is issuing this notice pursuant to Section 29 U.S.C. 655(6)(d), Secretary of Labor's Order No. 8-2020 (85 FR 58393; Sept. 18, 2020), and 29 CFR 1910.7.

Signed at Washington, DC, on May 13, 2021.
James S. Frederick,
Acting Assistant Secretary of Labor for Occupational Safety and Health.

[FR Doc. 2021-10522 Filed 5-18-21; 8:45 am]

BILLING CODE 4510-26-P